DEPARTMENT OF DEFENSE

Department of the Navy

[Docket ID: USN-2022-HQ-0017]

Submission for OMB Review; Comment Request

AGENCY: Department of the Navy, Department of Defense (DoD).

ACTION: 30-Day information collection notice.

SUMMARY: The DoD has submitted to OMB for clearance the following proposal for collection of information under the provisions of the Paperwork Reduction Act.

DATES: Consideration will be given to all comments received by September 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title: Associated Form; and OMB Number: COVID-19 Behavioral Health Surveillance Survey; OMB Control Number 0703-BHSS.

Type of Request: New collection.

Number of Respondents: 25,000.

Responses per Respondent: 2.

Annual Responses: 50,000.

Average Burden per Response: 30 minutes.

Annual Burden Hours: 25,000.

Needs and Uses: Information about the impacts of the COVID-19 pandemic on service member health and readiness is urgently needed to inform the military's response to the pandemic and to ensure service member health and readiness. The proposed anonymous, web-based COVID-19 Behavioral Health Surveillance survey will provide unit-level and service-wide information about the effects of the pandemic on Sailors and Marines. Unit commanders will be provided with critical information about specific COVID-19 related challenges service members face so that they can employ strategies to mitigate the harms associated with the pandemic. The survey asks about a range of issues related to the COVID-19 pandemic, including its effects on service members' ability to effectively perform their duties, home life and relationships, preventative health behaviors, and mental/behavioral health and readiness.

The surveillance effort will involve an initial assessment, which may be followed by a 6-month follow-up assessment using the same survey. It will be possible to use data resulting from repeated surveillance to determine changes over time in unit-level health and readiness.

Affected Public: Individuals or households.

Frequency: Survey will be fielded twice.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 16, 2022.
Kayyonne T. Marston,
Alternate OSD Federal Register Liaison Officer, Department of Defense.

[FR Doc. 2022-17962 Filed 8-19-22; 8:45 am]

BILLING CODE 5001-06-P